DEPARTMENT OF COMMERCE

International Trade Administration

[A-357-007, C-357-004]

Revocation of Antidumping Duty Order and Termination of Suspended Countervailing Duty Investigation: Carbon Steel Wire Rod From Argentina

AGENCY: Import Administration, International Trade Administration, Department of Commerce.

ACTION: Notice of revocation of antidumping duty order and termination of suspended countervailing duty investigation: Carbon steel wire rod from Argentina.

SUMMARY: Pursuant to section 751(c) of the Tariff Act of 1930, as amended (“the Act”), the United States International Trade Commission (“the Commission”) determined that revocation of the antidumping duty order and termination of the suspended countervailing duty investigation on carbon steel wire rod from Argentina is not likely to lead to continuation or recurrence of material injury to an industry in the United States within a reasonably foreseeable time (65 FR 5368 (February 3, 2000)). Therefore, pursuant to section 751(d)(2) of the Act and 19 CFR 351.222(i)(1), the Department of Commerce (“the Department”) is revoking the antidumping duty order and terminating the suspended countervailing duty investigation on carbon steel wire rod from Argentina. Pursuant to section 751(c)(6)(A)(iv) of the Act and 19 CFR 351.222(i)(2) the effective date of revocation and termination is January 1, 2000.

FOR FURTHER INFORMATION CONTACT: Darla D. Brown or Melissa G. Skinner, Office of Policy for Import Administration, International Trade Administration, U.S. Department of Commerce, 14th Street and Constitution Ave., NW, Washington, D.C. 20230; telephone: (202) 482-3207 or (202) 482-1560, respectively.

EFFECTIVE DATE: January 1, 2000.

Background

On November 2, 1998, the Department initiated, and the Commission instituted, sunset reviews (63 FR 58709 and 63 FR 58756, respectively) of the antidumping duty order and the suspended countervailing duty investigation on carbon steel wire rod from Argentina, pursuant to section 751(c) of the Act. As a result of the reviews, the Department found that revocation of the antidumping duty order and termination of the suspended countervailing duty investigation would be likely to lead to continuation or recurrence of dumping and a countervailable subsidy, respectively, and notified the Commission of the magnitude of the margin and the net countervailable subsidy likely to prevail were the antidumping order revoked and the suspended countervailing duty investigation terminated (see Final Results of Full Sunset Review: Carbon Steel Wire Rod from Argentina, 64 FR 53321 (October 1, 1999); and Final Results of Full Sunset Review: Carbon Steel Wire Rod from Argentina, 64 FR 53331 (October 1, 1999)).

On February 3, 2000, the Commission determined, pursuant to section 751(c) of the Act, that revocation of the antidumping duty order and termination of the suspended countervailing duty investigation on carbon steel wire rod from Argentina would not likely lead to continuation or recurrence of material injury to an industry in the United States within a reasonably foreseeable time (see Carbon Steel Wire Rod From Argentina, 65 FR 5368 (February 3, 2000), and USITC Pub. 3270, Investigations Nos. 701-TA-A (Review) and 731-TA-157 (Review)).

Scope

The merchandise subject to this antidumping duty order and suspended countervailing duty investigation is carbon steel wire rod, both high carbon and low carbon, manufactured in Argentina and exported, directly or indirectly from Argentina to the United States. The term “carbon steel wire rod” covers a coiled, semi-finished, hot-rolled carbon steel product of approximately round solid cross section, not under 0.02 inches nor over 0.74 inches in diameter, not tempered, not treated, and not partly manufactured, and valued at over 4 cents per pound. The merchandise subject to this order is currently classifiable under item numbers 7213.20.00, 7213.31.30, 7213.39.00, 7213.41.30, 7213.49.00, and 7213.50.00 of the Harmonized Tariff Schedule of the United States (“HTSUS”). Although the HTSUS subheadings are provided for convenience and customs purposes, the written description remains dispositive.

Determination

As a result of the determination by the Commission that revocation of this antidumping duty order and termination of this suspended countervailing duty investigation are not likely to lead to continuation or recurrence of material injury to an industry in the United States, the Department, pursuant to section 751(d)(2) of the Act and 19 CFR 351.222(i)(1), is revoking the antidumping duty order and terminating the suspended countervailing duty investigation on carbon steel wire rod from Argentina. Pursuant to section 751(c)(6)(A)(iv) of the Act and 19 CFR 351.222(i)(2)(ii), this revocation and termination is effective January 1, 2000. The Department will instruct the U.S. Customs Service to discontinue the suspension of liquidation and collection of cash deposit rates on entries of the subject merchandise entered or withdrawn from warehouse on or after January 1, 2000 (the effective date). The Department will complete any pending administrative review of this order and suspension agreement and will conduct administrative reviews of subject merchandise entered prior to the effective date of revocation and termination in response to appropriately filed requests for review.

February 10, 2000.
Robert S. LaRussa,
Assistant Secretary for Import Administration.

[FR Doc. 00-3691 Filed 2-15-00; 8:45 am]

BILLING CODE 3510-DS-P